DEPARTMENT OF HEALTH AND HUMAN SERVICES

Charter Renewal of the Advisory Committee on Blood and Tissue Safety and Availability

AGENCY: Office of the Assistant Secretary for Health, Office of the Secretary, Department of Health and Human Services.

ACTION: Notice.

SUMMARY: The Department of Health and Human Services is hereby giving notice that the charter for the Advisory Committee on Blood and Tissue Safety and Availability (ACBTSA) has been renewed.

FOR FURTHER INFORMATION CONTACT: Mr. James Berger, Designated Federal Officer for the ACBTSA, Senior Advisor for Blood and Tissue Policy, Office of the Assistant Secretary for Health, Department of Health and Human Services, 330 C Street SW, Suite L600, Washington, DC 20024. Phone: (202) 795-7608. Email: ACBTSA@hhs.gov.

SUPPLEMENTARY INFORMATION: The ACBTSA is a non-discretionary federal advisory committee. The ACBTSA is authorized under 42 U.S.C. 217a, Section 222 of the Public Health Service (PHS) Act, as amended. The Committee is governed by the provisions of the Federal Advisory Committee Act (FACA), Public Law 92-463, as amended (5 U.S.C. App.), which sets forth standards for the formation and use of advisory committees. The ACBTSA advises, assists, consults with, and makes policy recommendations to the Secretary, through the Assistant Secretary for Health, regarding broad responsibilities related to the safety of blood, blood products, tissues, and organs. For solid organs and blood stem cells, the Committee's work is limited to policy issues related to donor derived infectious disease complications of transplantation.

To carry out its mission, the ACBTSA provides advice to the Secretary through the Assistant Secretary for Health on a range of policy issues which includes: (1) Identification of public health issues through surveillance of blood and tissue safety issues with national biovigilance data tools; (2) identification of public health issues that affect availability of blood, blood products, and tissues; (3) broad public health, ethical, and legal issues related to the safety of blood, blood products, and tissues; (4) the impact of various economic factors (e.g., product cost and supply) on safety and availability of blood, blood products, and tissues; (5) risk communications related to blood transfusion and tissue transplantation; and (6) identification of infectious disease transmission issues for blood, organs, blood stem cells and tissues.

On October 9, 2020, the Secretary approved for the ACBTSA charter to be renewed. The new charter was effected and filed with the appropriate Congressional committees and the Library of Congress on October 9, 2020. Renewal of the Committee's charter gives authorization for the Committee to continue to operate until October 9, 2022.

A copy of the ACBTSA charter is available on the Committee's website at https://www.hhs.gov/oidp/advisory-committee/blood-tissue-safety-availability/charter/index.html.

Dated: October 22, 2020.
James J. Berger,
DFO, Advisory Committee on Blood and Safety and Availability, Office of Infectious Disease and HIV/AIDS Policy.

[FR Doc. 2020-24404 Filed 11-3-20; 8:45 am]

BILLING CODE 4150-28-P